DEPARTMENT OF DEFENSE

Office of the Secretary

Amendment to the Inland Waterways Users Board

AGENCY: DoD.

ACTION: Charter Amendment for Federal Advisory Committee.

SUMMARY: Under the provisions of the Federal Advisory Committee Act of 1972 (5 U.S.C. Appendix), the Government in the Sunshine Act of 1976 (5 U.S.C. 552b), and 41 CFR 102-3.50(d), the Department of Defense gives notice that it is amending the charter for the Inland Waterways Users Board (hereafter referred to as “the Board”). The Board is authorized by statute, and shall provide the Secretary of Defense, through the Secretary of the Army and the Assistant Secretary of the Army for Civil Works, independent advice and recommendations on matters relating to construction and rehabilitation priorities and spending levels on the commercial navigation features and components of the U.S. inland waterways and inland harbors as defined in Public Law 95-502 and amended by Public Law 99-662.

According to 33 U.S.C. 2251b, the Board shall annually file their recommendations with the Secretary of the Army and with Congress. The Secretary of the Army, pursuant to DoD policy, may act upon the Board's advice and recommendations. Board members, as determined by the Department of Defense, shall be representative members and, pursuant to 33 U.S.C. 2251(a), the Board shall be composed of eleven members.

Based upon the Secretary of the Army's recommendation, the Secretary of Defense shall invite primary commercial users and shippers of the inland and intracoastal waterways to serve on the Board. Commercial users and shippers invited to serve on the Board shall designate an individual to represent the organization's interests.

The Department of Defense, when considering prospective users and shippers to be represented on the Board, shall ensure selections represent various regions of the country and a spectrum of the primary users and shippers utilizing the inland and intracoastal waterways for commercial purposes. Due consideration shall be given to assure a balance among the members based on the ton-mile shipments of the various categories of commodities shipped on inland and intracoastal waterways.

A primary user or shipper may be represented on the Board, at the request of the Secretary of the Army and with the approval of the Secretary of Defense, for a two-year term of service with annual renewals. A user or shipper may be represented on the Board for no more than two terms of service (four years); a user or shipper may be subsequently represented on the Board, but only after being off the Board for at least two years.

In addition to the primary users and shippers invited by the Secretary of Defense, the Secretary of the Army shall designate, and the Secretaries of Agriculture, Transportation and Commerce may each designate a representative to act as an observer of the Board. These observers, who have no voting rights, shall be full-time or permanent part-time employees of his or her respective agency.

Pursuant to 33 U.S.C. 2251(a), the Secretary of the Army shall designate one Board member to serve as the Board's Chairperson. With the exception of travel and per diem for official travel, all Board members shall serve without compensation.

With DoD approval and according to DoD policies and procedures, the Board, consistent with its mission, is authorized to establish subcommittees, task groups, or working groups to support the Board. These subcommittees or working groups shall operate under the provisions of FACA, the Sunshine Act, and other governing Federal statutes and regulations, and governing DoD policies and procedures.

Such subcommittees or task groups shall not work independently of the chartered Board, and shall report all their recommendations and advice to the Board for full deliberation and discussion. Subcommittees have no authority to make decisions on behalf of the chartered Board; nor can any subcommittee or its members update or report directly to the Department of Defense or any Federal officers or employees.

All subcommittee members shall be appointed in the same manner as the Board members; that is, the Secretary of Defense shall appoint subcommittee members even if the member in question is already a Board member. Subcommittee members, with the approval of the Secretary of Defense, may serve a term of service on the subcommittee of two years; however, no member shall serve more than two consecutive terms of service on the subcommittee.

With the exception of travel and per diem for official travel, subcommittee members shall serve without compensation.

FOR FURTHER INFORMATION CONTACT: Jim Freeman, Acting Advisory Committee Management Officer for the Department of Defense, 703-692-5952.

SUPPLEMENTARY INFORMATION: The Board shall meet at the call of the Board's Designated Federal Officer, in consultation with the Chairperson. The Board shall meet at least semi-annually.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to the Inland Waterways Users Board membership about the Board's mission and functions. Written statements may be submitted at any time or in response to the stated agenda of planned meeting of the Inland Waterways Users Board.

All written statements shall be submitted to the Designated Federal Officer for the Inland Waterways Users Board, and this individual will ensure that the written statements are provided to the membership for their consideration. Contact information for the Inland Waterways Users Board's Designated Federal Officer can be obtained from the GSA's FACA Database— https://www.fido.gov/facadatabase/public.asp.

The Designated Federal Officer, pursuant to 41 CFR 102-3.150, will announce planned meetings of the Inland Waterways Users Board. The Designated Federal Officer, at that time, may provide additional guidance on the submission of written statements that are in response to the stated agenda for the planned meeting in question.

Dated: April 12, 2012.
Aaron Siegel,
Alternate OSD Federal Register Liaison Officer, Department of Defense.

[FR Doc. 2012-9165 Filed 4-16-12; 8:45 am]

BILLING CODE 5001-06-P